DEPARTMENT OF TRANSPORTATION

Bureau of Transportation Statistics

[Docket ID Number: DOT-OST-2014-0031]

Agency Information Collection: Activity Under OMB Review: Report of Passengers Denied Confirmed Space—BTS Form 250

AGENCY: Office of the Assistant Secretary for Research and Technology (OST-R), Bureau of Transportation Statistics (BTS), DOT.

ACTION: Notice.

SUMMARY: In compliance with the Paperwork Reduction Act of 1995, this notice announces that the Information Collection Request (ICR) abstracted below is being forwarded to the Office of Management and Budget (OMB) for an extension of a previously approved collection. The ICR describes the nature of the information collection and its expected burden. The Federal Register Notice with a 60-day comment period soliciting comments on the following collection of information was published on September 5, 2023. There were no comments. As the September 5, 2023, Notice solicits comments from the public on whether it is appropriate for the Department to continue to collect information on oversales from airlines, the issues raised by these comments are beyond the scope of this Notice and will not be addressed here. Specifically, having obsolete regulations that allow three legacy carriers and one discount carrier to control 80% of the domestic aviation market, while banning foreign competitors from offering U.S. domestic flights, and allowing airlines to book to 100% capacity or overbook to increase their revenue stream. With respect to the overbooking comment, the FAA has no jurisdiction in this matter, however, the Department does. And although it is not the Department's policy or purpose to dictate how airlines internally manage their business; this ended with deregulation of the aviation industry in 1979, it is the Department's policy and purpose to protect and standardize how the airlines treat their passengers.

DATES: Written comments should be submitted by January 8, 2024.

FOR FURTHER INFORMATION CONTACT: Cecelia Robinson, Office of Airline Information, RTS-42, OST-R, BTS, 1200 New Jersey Avenue SE, Washington, DC 20590-0001, Telephone Number (202) 893-0515, Fax Number (202) 366-3383 or email cecelia.robinson@dot.gov.

Comments: Written comments and recommendations for the proposed information collection should be sent within 30 days of publication of this notice to www.reginfo.gov/public/do/PRAMain. Find this particular information collection by selecting “Currently under 30-day Review—Open for Public Comments” or by using the search function.

SUPPLEMENTARY INFORMATION: Title 14 of the Code of Federal Regulations, part 250, addresses how airlines are to conduct their overbooking processes and compensate passengers in the event of an overbooking.

OMB Approval No.: 2138-0018.

Title: Report of Passengers Denied Confirmed Space.

Form No.: BTS Form 250.

Type of Review: Extension of a currently approved collection.

U.S. Air Carriers for Flights They Operate

Respondents: Large certificated air carriers.

Number of Respondents: 15.

Number of Quarterly Responses: 60.

Number of Hours per Response: 10.

Total Annual Burden: 600 hours.

U.S. Air Carriers for Codeshare Flights They Market

Respondents: Large certificated air carriers.

Number of Respondents: 4.

Number of Responses: 16.

Number of Hours per Response: 6.

Total Annual Burden: 96 hours.

Needs and Uses: BTS Form 250 is a one-page report on the number of passengers denied seats either voluntarily or involuntarily, whether these bumped passengers were provided alternate transportation and/or compensation, and the amount of the payment. On November 3, 2016, the Department published a Final Rule (see 81 FR 76800) that changed the number of U.S. air carriers that account for at least 1 percent to half of one percent of domestic scheduled-service passenger revenues who must report all operations with 30 seat or larger aircraft that depart a U.S. airport.

Carriers do not report data from inbound international flights because the protections of 14 CFR part 250 Oversales do not apply to these flights. The report allows the Department to monitor the effectiveness of its oversales rule and take enforcement action when necessary. The involuntarily denied-boarding rate has decreased from 4.38 per 10,000 passengers in 1980 to 0.24 per 10,000 passengers in 2019. The publishing of the carriers' individual denied boarding rates has negated the need for more intrusive regulation. The rate of denied boarding can be examined as a continuing fitness factor. This rate provides an insight into a carrier's customer service practices. A rapid sustained increase in the rate of denied boarding may indicate operational difficulties. Because the rate of denied boarding is released quarterly, travelers and travel agents can select carriers with lower incidences of denied boardings. This information is available in the Air Travel Consumer Report at: http://airconsumer.ost.dot.gov/reports/index.htm. The Air Travel Consumer Report is also sent to newspapers, magazines, and trade journals. Without Form 250, determining the effectiveness of the Department's oversales rule would be impossible.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis, and possible use in regulatory and other administrative matters.

Issued in Washington, DC, on December 4, 2023.
William Chadwick, Jr.,
Director, Office of Airline Information, U.S. Department of Transportation.

[FR Doc. 2023-26847 Filed 12-7-23; 8:45 am]

BILLING CODE 4910-9X-P